DEPARTMENT OF JUSTICE

Notice of Lodging of Proposed Consent Decree Under the Clean Water Act

On June 3, 2014, the Department of Justice lodged a proposed consent decree with the United States District Court for the Northern District of Indiana in the lawsuit entitled United States and the State of Indiana v. United Water, Inc., United Water Environmental Services, Inc., United Water Services, LLC, and United Water Services Indiana, LLC, Civil Action No. 2:14-cv-00193 (N.D. Ind.).

The consent decree would resolve claims under the Clean Water Act (“CWA”), 33 U.S.C. 1251 et seq., based on the alleged violations by United Water, Inc. and its subsidiaries United Water Environmental Services, Inc., United Water Services LLC, and United Water Services Indiana LLC during their operation of a publicly owned wastewater treatment system in the City of Gary, Indiana between 1998 and 2010. A complaint, filed concurrently with the lodging of the proposed decree, sets forth the claims brought under Section 309(b) and (d) of the CWA for: (1) Unauthorized discharges of pollutants under Section 301 of the Act; (2) failure to comply with the terms of a permit issued to Gary Sanitary District under the National Pollutant Discharge Elimination System (“NPDES”) provisions of the CWA that was effective between 2006 and 2012; and (3) failure to timely submit information requested by EPA in 2010 under Section 308 of CWA. Under the proposed decree, United Water will pay a civil penalty of $645,000.

The publication of this notice opens a period for public comment on the proposed consent decree. Comments should be addressed to the Assistant Attorney General, Environment and Natural Resources Division, and should refer to United States and the State of Indiana v. United Water, Inc. et al., D.J. Ref. No. 90-5-1-1-2601/1. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $4.50 (25 cents per page reproduction cost) payable to the United States Treasury.

Maureen M. Katz,
Assistant Section Chief, Environmental Enforcement Section, Environment and Natural Resources Division.

[FR Doc. 2014-13442 Filed 6-9-14; 8:45 am]

BILLING CODE 4410-15-P